DEPARTMENT OF AGRICULTURE

Office of the Secretary

7 CFR Part 2

Agricultural Research Service

7 CFR Part 520

RIN 0524-AA63

Revision of Delegations of Authority

AGENCIES: Office of the Secretary, USDA; Agricultural Research Service, USDA.

ACTION: Final rule.

SUMMARY: This rule makes a number of miscellaneous amendments to delegations of authority by adding new authorities, correcting references, and removing obsolete authorities.

DATES: This rule is effective July 9, 2012.

FOR FURTHER INFORMATION CONTACT: Matthew Lockhart; Senior Policy Specialist; National Institute of Food and Agriculture; U.S. Department of Agriculture; STOP 2299; 1400 Independence Avenue SW.; Washington, DC 20250-2299; Voice: 202-559-5088; Fax: 202-401-7752; Email: mlockhart@nifa.usda.gov.

SUPPLEMENTARY INFORMATION:

Delegations of Authority

This rule makes changes to existing delegations in 7 CFR parts 2 and 520. The delegations of authority to the Under Secretary for Research, Education, and Economics (REE) in 7 CFR 2.21 and to the Director of the National Institute of Food and Agriculture (NIFA) in 7 CFR 2.66 are amended to reflect the delegation of the authority of the Secretary of Agriculture (Secretary) in section 405 of the Agricultural Research, Extension, and Education Reform Act of 1998 (7 U.S.C. 7625), as added by section 209(b) of the FDA Food Safety Modernization Act, Public Law 111-353, to carry out a competitive grant program within NIFA to provide food safety training, education, extension, outreach, and technical assistance to owners and operators of farms, small food processors, and small fruit and vegetable merchant wholesalers.

The authorities to approve the selection of State directors of extension and memoranda of understanding (MOUs) between land-grant universities and USDA, related to cooperative extension programs, reserved to the Secretary in 7 CFR 2.21(b)(1)(v) and (vi), respectively, are removed. The MOUs, which required USDA approval of extension directors/administrators, have been terminated by USDA due to obsolescence.

The delegations of authority to the Administrator of the National Agricultural Statistics Service in 7 CFR 2.68 are amended to reflect the delegation of authority, currently delegated to the Under Secretary for REE in 7 CFR 2.21(a)(xviii), to enter into agreements with and receive funds from any State, other political subdivision, organization, or individual for the purpose of conducting cooperative research projects, including agricultural statistical survey activities (7 U.S.C. 450a).

Finally, this rule amends Agricultural Research Service (ARS) regulations at 7 CFR 520.4 to correct a reference to the ARS official with delegated responsibility for the establishment of procedures and coordination necessary to carry out the policies and provisions of the National Environmental Policy Act within ARS.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Fairness Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Parts 2 and 520

Authority delegations (Government agencies), Agricultural research, Agricultural extension, Federal assistance, Food and agricultural sciences.

Title 7 of the Code of Federal Regulations is amended accordingly as set forth below:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

Subpart C—Delegations of Authority to the Deputy Secretary, Under Secretaries, and Assistant Secretaries

2. Amend § 2.21 as follows:

a. Add paragraph (a)(1)(ccv); and

b. Remove paragraphs (b)(1)(v) and (vi).

The addition reads as follows:

§ 2.21 Under Secretary for Research, Education, and Economics.

(a) * * *

(1) * * *

(ccv) Administer a competitive grant program for national food safety training, education, extension, outreach, and technical assistance (7 U.S.C. 7625).

* * * * *

Subpart K—Delegations of Authority by the Under Secretary for Research, Education, and Economics

3. Amend § 2.66 by adding paragraph (a)(160) to read as follows:

§ 2.66 Director, National Institute of Food and Agriculture.

(a) * * *

(160) Administer a competitive grant program for national food safety training, education, extension, outreach, and technical assistance (7 U.S.C. 7625).

* * * * *

4. Amend § 2.68 by adding paragraph (a)(12) to read as follows:

§ 2.68 Administrator, National Agricultural Statistics Service.

(a) * * *

(12) Enter into agreements with and receive funds from any State, other political subdivision, organization, or individual for the purpose of conducting cooperative research projects, including agricultural statistical survey activities (7 U.S.C. 450a).

* * * * *

PART 520—PROCEDURES FOR IMPLEMENTING NATIONAL ENVIRONMENTAL POLICY ACT

5. The authority citation for part 520 continues to read as follows:

Authority: National Environmental Policy Act (NEPA) as amended, 42 U.S.C. 4321 et seq.; E.O. 11514, 34 FR 4247, as amended by E.O. 11991, 42 FR 26927; E.O. 12144, 44 FR 11957; 5 U.S.C. 301; 40 CFR 1500-1508.

6. Amend § 520.4 by revising paragraph (a) to read as follows:

§ 520.4 Responsibilities.

(a) Administrator. The Administrator is responsible for environmental analysis and documentation required for compliance with the provisions of NEPA and related laws, policies, plans, programs, and projects. The ARS Deputy Administrator for Natural Resources has been delegated responsibility for the establishment of procedures and coordination necessary to carry out the policies and provisions of NEPA.

* * * * *

Dated: June 29, 2012.
Thomas J. Vilsack,
Secretary.

[FR Doc. 2012-16610 Filed 7-6-12; 8:45 am]

BILLING CODE 3410-09-P